DEPARTMENT OF ENERGY

Federal Energy Regulatory Commission

Combined Notice of Filings

Take notice that the Commission has received the following Natural Gas Pipeline Rate and Refund Report filings:

Docket Numbers: RP20-433-001.

Applicants: Adelphia Gateway, LLC.

Description: Tariff Amendment: Adelphia NAESB amendment filing 1-14-20 to be effective 1/13/2020.

Filed Date: 1/14/20.

Accession Number: 20200114-5164.

Comments Due: 5 p.m. ET 1/27/20.

Docket Numbers: RP20-434-000.

Applicants: Enable Mississippi River Transmission, LLC.

Description: § 4(d) Rate Filing: Negotiated Rate Filing—Liberty Utilities RP18-923 & RP20-131 Settlement to be effective 1/1/2019.

Filed Date: 1/14/20.

Accession Number: 20200114-5081.

Comments Due: 5 p.m. ET 1/27/20.

Docket Numbers: RP20-435-000.

Applicants: Gulf South Pipeline Company, LLC.

Description: § 4(d) Rate Filing: Cap Rel Neg Rate Agmt (Calyx 51780 to BP 52119) to be effective 1/15/2020.

Filed Date: 1/14/20.

Accession Number: 20200114-5083.

Comments Due: 5 p.m. ET 1/27/20.

Docket Numbers: RP20-435-001.

Applicants: Gulf South Pipeline Company, LLC.

Description: Tariff Amendment: Amendment to Filing in Docket No. RP20-435-000 to be effective 1/15/2020.

Filed Date: 1/14/20.

Accession Number: 20200114-5093.

Comments Due: 5 p.m. ET 1/27/20.

Docket Numbers: RP20-436-000.

Applicants: Rockies Express Pipeline LLC.

Description: § 4(d) Rate Filing: REX 2020-01-14 Non-Conforming Negotiated Rate amendment to be effective 1/15/2020.

Filed Date: 1/14/20.

Accession Number: 20200114-5179.

Comments Due: 5 p.m. ET 1/27/20.

Docket Numbers: RP20-437-000.

Applicants: East Tennessee Natural Gas, LLC.

Description: § 4(d) Rate Filing: ETNG Jan2020 NCF Cleanup to be effective 2/14/2020.

Filed Date: 1/14/20.

Accession Number: 20200114-5184.

Comments Due: 5 p.m. ET 1/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2020.
Nathaniel J. Davis, Sr.,
Deputy Secretary.

[FR Doc. 2020-00956 Filed 1-21-20; 8:45 am]

BILLING CODE 6717-01-P